Title 3—

The President

Memorandum of September 24, 2015

Delegation of Authority Under the National Defense

Authorization Act for Fiscal Year 2015

Memorandum for the Secretary of State

By the authority vested in me as President by the Constitution and the laws of the United States of America, including section 301 of title 3, United States Code, I hereby order as follows:

I hereby delegate to the Secretary of State the authority to notify the Congress as required by section 3133(c) of the National Defense Authorization Act for Fiscal Year 2015 (Public Law 113-291) (the “Act”).

Any reference in this memorandum to the Act shall be deemed to be a reference to any future act that is the same or substantially the same as such provision.

You are authorized and directed to publish this memorandum in the Federal Register.

THE WHITE HOUSE,

Washington, September 24, 2015

[FR Doc. 2015-26107

Filed 10-9-15; 8:45 am]

Billing code 4710-10-P